DEPARTMENT OF COMMERCE

International Trade Administration

[A-201-831]

Prestressed Concrete Steel Wire Strand From Mexico: Final Affirmative Determination of Circumvention of the Antidumping Duty Order

AGENCY: Enforcement and Compliance, International Trade Administration, Department of Commerce.

SUMMARY: The U.S. Department of Commerce (Commerce) determines that imports of certain high carbon steel (HCS) wire that are produced in Mexico and assembled or completed into prestressed concrete steel wire strand (PC strand) in the United States are circumventing the antidumping duty (AD) order on PC strand from Mexico.

DATES: Applicable September 27, 2024.

FOR FURTHER INFORMATION CONTACT: Jonathan Schueler, AD/CVD Operations, Office VIII, Enforcement and Compliance, International Trade Administration, U.S. Department of Commerce, 1401 Constitution Avenue NW, Washington, DC 20230; telephone: (202) 482-9175.

SUPPLEMENTARY INFORMATION:

Background

On January 28, 2004, Commerce published in the Federal Register the AD order on PC strand from Mexico.¹ On July 31, 2023, pursuant to section 781(a) of the Tariff Act of 1930, as amended (the Act), and 19 CFR 351.226(d)(1), Commerce initiated a country-wide circumvention inquiry to determine whether imports of HCS wire from Mexico that is assembled or completed into PC strand in the United States is circumventing the Order and, accordingly, should be covered by the scope of the Order.² On April 2, 2024, Commerce published the Preliminary Determination that imports of HCS wire that is produced in Mexico and assembled or completed into PC strand in the United States is circumventing the Order on a country-wide basis, pursuant to section 781(a) of the Act.³ Between April 23 and 26, 2024, Commerce conducted on-site verification of the questionnaire responses submitted by Aceros Camesa S.A. de C.V. (Camesa) and WireCo WorldGroup (WireCo).⁴

¹ See Notice of Antidumping Duty Order: Prestressed Concrete Steel Wire Strand from Mexico, 69 FR 4112 (January 28, 2004) (Order).

² See Prestressed Concrete Steel Wire Strand from Mexico: Initiation of Circumvention Inquiry on the Antidumping Duty Order, 88 FR 49438 (July 31, 2023) (Initiation Notice). We note that in the Initiation Notice, we stated that we are initiating this circumvention inquiry pursuant to 19 CFR 351.226(d)(1)(ii). However, this section was amended after the Initiation Notice was published, therefore we reference the latest version of the regulation. See Administrative Protective Order, Service, and Other Procedures in Antidumping and Countervailing Duty Proceedings, 88 FR 67069, 67078 (September 29, 2023).

³ See Antidumping Duty Order on Prestressed Concrete Steel Wire Strand from Mexico: Preliminary Affirmative Determination of Circumvention, 89 FR 22668 (April 2, 2024) (Preliminary Determination), and accompanying Preliminary Determination Memorandum (PDM).

⁴ See Memorandum, “Verification of the Questionnaire Responses of WireCo and Camesa,” dated May 20, 2024.

On May 16, 2024, Commerce extended the deadline for issuing the final determination in this inquiry.⁵ On July 22, 2024, Commerce further extended the deadline for issuing the final determination in this inquiry.⁶ Also on July 22, 2024, Commerce tolled certain deadlines in this administrative proceeding by seven days.⁷ The deadline for the final determination is now September 20, 2024. For a summary of events that occurred since the Preliminary Determination, as well as a full discussion of the issues raised by parties for consideration in the final determination, see the Issues and Decision Memorandum.⁸

⁵ See Memorandum, “Extension of Final Determination,” dated May 16, 2024.

⁶ See Memorandum, “Second Extension of Final Determination,” dated July 22, 2024.

⁷ See Memorandum, “Tolling of Deadlines for Antidumping and Countervailing Duty Proceedings,” dated July 22, 2024.

⁸ See Memorandum, “Decision Memorandum for the Final Affirmative Determination of Circumvention of the Antidumping Duty Order on Prestressed Concrete Steel Wire Strand from Mexico,” dated concurrently with, and hereby adopted by, this notice.

The Issues and Decision Memorandum is a public document and is on file electronically via Enforcement and Compliance's Antidumping and Countervailing Duty Centralized Electronic Service System (ACCESS). ACCESS is available to registered users at https://access.trade.gov. In addition, a complete version of the Issues and Decision Memoranda can be accessed directly at https://access.trade.gov/public/FRNoticesListLayout.aspx.

Scope of the Order

The merchandise covered by this Order is PC strand. For a full description of the scope of the Order, see the Issues and Decision Memorandum.

Merchandise Subject to the Circumvention Inquiry

This circumvention inquiry covers certain HCS wire imported from Mexico. The HCS wire has a high carbon content (i.e., 0.60-0.85 percent),⁹ is not heat treated, and has a diameter less than 4.50 millimeters. The HCS wire is assembled or completed in the United States by stranding the HCS wire to produce PC strand of the type that would be subject to the Order (inquiry merchandise).

⁹ As discussed in Comment 6 of the Issues and Decision Memorandum, we revised the scope of the inquiry merchandise in the Preliminary Determination and re-affirm that revision in this final determination.

The inquiry merchandise is currently classifiable under HTSUS subheading 7217.10.8090. Although the HTSUS subheading is provided for convenience and customs purposes, the written description of the merchandise is dispositive.

Importers of the subject HCS wire that will not be converted into PC strand in the United States may certify that the HCS wire will not be further processed into subject merchandise covered by the scope of the Order. Failure to comply with the requisite certification requirement may result in the merchandise being found subject to AD duties.

Methodology

Commerce is conducting this circumvention inquiry in accordance with section 781(a) of the Act, and 19 CFR 351.226.¹⁰ We have continued to apply this methodology, without exception, and incorporate by reference this description of the methodology, for our final determination.

¹⁰ See Preliminary Determination PDM for a full description of the methodology.

Analysis of Comments Received

All issues raised in the case and rebuttal briefs by parties in these inquiries are addressed in the Issues and Decision Memorandum. A list of the issues raised is attached to this notice at Appendix I. Based on our analysis of the comments received from interested parties, we made no changes to our Preliminary Determination.

Final Circumvention Determination

We determine that Mexican-origin HCS wire produced by Deacero S.A.P.I. de CV (Deacero) and assembled or completed into PC strand in the United States is circumventing the Order. We also determine that Mexican-origin HCS wire produced by Aceros Camesa S.A. de C.V. (Camesa) is not assembled or completed into PC strand in the United States, and, therefore, is not circumventing the Order. For a detailed explanation of our determination, see the Preliminary Determination PDM and the Issues and Decision Memorandum.

We also determine that U.S. imports of inquiry merchandise exported from Mexico are circumventing the Order on a country-wide basis. As a result, in accordance with section 781(a) of the Act, we determine that this merchandise is covered by the Order.

See the “Suspension of Liquidation and Cash Deposit Requirements” section, below, for details regarding suspension of liquidation and cash deposit requirements. See the “Certifications” and “Certification Requirements” sections, below, for details regarding the use of certifications.

Suspension of Liquidation and Cash Deposit Requirements

Based on the affirmative country-wide determination of circumvention for Mexico, in accordance with 19 CFR 351.226(l)(3) and (m)(1)(ii), we will direct U.S. Customs and Border Protection (CBP) to suspend liquidation and require a cash deposit of estimated duties on unliquidated entries of HCS wire completed or assembled into PC strand in the United States that were entered, or withdrawn from warehouse, for consumption on or after July 31, 2023, the date of publication of the initiation of this circumvention inquiry in the Federal Register.

For exporters of HCS wire that have a company-specific cash deposit rate under the Order, the cash deposit rate will be the company-specific cash deposit rate established for that company in the most recently completed segment of the proceeding. For exporters of HCS wire that do not have a company-specific cash deposit rate under the Order, the AD cash deposit rate will be the “all-others” rate (62.78 percent).¹¹ The suspension of liquidation will remain in effect until further notice.

¹¹ See Order.

Certified Entries

Entries for which importers have met the certification requirements described below and in Appendix II to this notice will not be subject to suspension of liquidation, or the cash deposit requirements described above. Failure to comply with the applicable requisite certification requirements may result in the merchandise being subject to AD duties.

Certification

To administer the country-wide affirmative determinations of circumvention for Mexico, Commerce established importer certifications which will permit importers to establish that specific entries of HCS wire from Mexico are not subject to suspension of liquidation or the collection of cash deposits pursuant to this affirmative determination of circumvention because the merchandise meets the requirements described in the certification (see Appendix II to this notice).

Importers that claim that the entry of HCS wire is not subject to suspension of liquidation or the collection of cash deposits based on the end-use of such merchandise must complete the applicable certification and meet the certification and documentation requirements described below, as well as the requirements identified in the certification.

Certification Requirements

Importers are required to complete and maintain the applicable importer certification and retain all supporting documentation for the certification. With the exception of the entries described below, the importer certification must be completed, signed, and dated by the time the entry summary is filed for the relevant entry. The importer, or the importer's agent, must submit both the importer's certification and the exporter's certification to CBP as part of the entry process by uploading them into the document imaging system (DIS) in ACE. Where the importer uses a broker to facilitate the entry process, the importer should obtain the entry summary number from the broker. Agents of the importer, such as a broker, however, are not permitted to certify on behalf of the importer.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For all entries of HCS wire from Mexico that were entered, or withdrawn from warehouse, for consumption during the period July 31, 2023, (the date of initiation of this circumvention inquiry), through the date of publication of the Preliminary Determination in the Federal Register (i.e., April 2, 2024), where the entry has not been liquidated (and entries for which liquidation has not become final), the relevant certification should already be complete and signed.

For unliquidated entries (and entries for which liquidation has not become final) of HCS wire that were declared as non-AD/countervailing duty (CVD) type entries (e.g., type 01) and entered, or withdrawn from warehouse, for consumption in the United States during the period July 31, 2023 (the date of initiation of these circumvention inquiries), through the date of publication of the Preliminary Determination in the Federal Register (i.e., April 2, 2024), for which none of the above certifications may be made, importers must file a Post Summary Correction with CBP, in accordance with CBP's regulations, regarding conversion of such entries from non-AD/CVD type entries to AD/CVD type entries (e.g., type 01 to type 03). The importer should post cash deposits on those entries consistent with the regulations governing post summary corrections that require payment of additional duties, including AD and CVD duties.

If it is determined that an importer has not met the certification and/or related documentation requirements for certain entries, Commerce intends to instruct CBP to suspend, pursuant to this country-wide affirmative determination of circumvention and the Order, all unliquidated entries for which these requirements were not met and require the importer to post applicable cash deposits equal to the rates noted above.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. An interested party who would like Commerce to conduct an administrative review should wait until Commerce announces via the Federal Register the next window during the anniversary month of the publication of the Orders to submit such requests. The anniversary month for this Order is January.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

These determinations are issued and published in accordance with section 781(a) of the Act and 19 CFR 351.226(g)(2).

Dated: September 20, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Merchandise Subject to the Circumvention Inquiry

V. Period of Circumvention Inquiry

VI. Discussion of the Issues

Comment 1: Whether the Scope of the Order Precludes an Affirmative Determination of Circumvention

Comment 2: Whether HCS Wire Is a Part or Component Within the Meaning of Section 781(a) of the Act

Comment 3: Whether Deacero USA Inc.'s Production Process Is Minor or Insignificant

Comment 4: Whether the Value of the HCS Wire Imported From Mexico Is a Significant Portion of the Total Value of the PC Strand Sold in the United States

Comment 5: Whether Deacero's Increased Imports of HCS Wire Support an Affirmative Circumvention Determination

Comment 6: Whether Commerce Lawfully Modified the Scope of the Inquiry Merchandise

Comment 7: Whether To Exempt Camesa From the Certification Process

VII. Recommendation

Appendix II

Importer Certification

I hereby certify that:

A. My name is {IMPORTING COMPANY OFFICIAL'S NAME} and I am an official of {NAME OF IMPORTING COMPANY}, located at {ADDRESS OF IMPORTING COMPANY}.

B. I have direct personal knowledge of the facts regarding the importation into the Customs territory of the United States of subject high-carbon steel (HCS) wire produced in Mexico that entered under the entry summary number(s), identified below, and which is covered by this certification. “Direct personal knowledge” refers to the facts the certifying party is expected to have in its own records. For example, the importer should have direct personal knowledge of the exporter's and/or seller's identity and location.

C. If the importer is acting on behalf of the first U.S. customer, include the following sentence as paragraph C of this certification:

The imported subject-HCS wire covered by this certification was imported by {NAME OF IMPORTING COMPANY} on behalf of {NAME OF U.S. CUSTOMER}, located at {ADDRESS OF U.S. CUSTOMER}.

If the importer is not acting on behalf of the first U.S. customer, include the following sentence as paragraph C of this certification:

{NAME OF IMPORTING COMPANY} is not acting on behalf of the first U.S. customer.

D. The imported HCS wire covered by this certification was shipped to {NAME OF PARTY IN THE UNITED STATES TO WHOM THE MERCHANDISE WAS FIRST SHIPPED}, located at {U.S. ADDRESS TO WHICH MERCHANDISE WAS SHIPPED}.

E. Select the appropriate statement below:

a. I have personal knowledge of the facts regarding the end-use of the imported products covered by this certification because my company is the end-user of the imported product covered by this certification and I certify that the imported subject-HCS wire will not be used to produce subject merchandise. “Personal knowledge” includes facts obtained from another party, (e.g., correspondence received by the importer (or exporter) from the producer regarding the source of the inputs used to produce the imported products).

b. I have personal knowledge of the facts regarding the end-use of the imported product because my company is not the end-user of the imported product covered by this certification. However, I have been able to contact the end-user of the imported product and confirm that it will not use this product to produce subject merchandise. The end-user of the imported product is {COMPANY NAME} located at {ADDRESS}. “Personal knowledge” includes facts obtained from another party (e.g., correspondence received by the importer from the end-user of the product).

F. The imported subject-HCS wire covered by this certification will not be further processed into prestressed concrete steel wire strand (PC strand) in the United States.

G. This certification applies to the following entries (repeat this block as many times as necessary):

Entry Summary #:

Entry Summary Line Item #:

Foreign Seller:

Foreign Seller's Address:

Foreign Seller's Invoice #:

Foreign Seller's Invoice Line Item #:

Producer:

Producer's Address:

H. I understand that {NAME OF IMPORTING COMPANY} is required to maintain a copy of this certification and sufficient documentation supporting this certification (i.e., documents maintained in the normal course of business, or documents obtained by the certifying party, for example, mill certificates, product specification sheets, production records, invoices, etc.) until the later of: (1) the date that is five years after the latest entry date of the entries covered by the certification; or (2) the date that is three years after the conclusion of any litigation in United States courts regarding such entries.

I. I understand that {NAME OF IMPORTING COMPANY} is required to provide this certification and supporting records to U.S. Customs and Border Protection (CBP) and/or the U.S. Department of Commerce (Commerce), upon the request of either agency.

J. I understand that the claims made herein, and the substantiating documentation, are subject to verification by CBP and/or Commerce.

K. I understand that failure to maintain the required certifications and supporting documentation, or failure to substantiate the claims made herein, or not allowing CBP and/or Commerce to verify the claims made herein, may result in a de facto determination that all entries to which this certification applies are entries of merchandise that is covered by the scope of the antidumping duty order on PC strand from Mexico. I understand that such a finding will result in:

(i) suspension of liquidation of all unliquidated entries (and entries for which liquidation has not become final) for which these requirements were not met;

(ii) the importer being required to post the antidumping duty cash deposits determined by Commerce; and

(iii) the importer no longer being allowed to participate in the certification process.

L. I understand that agents of the importer, such as brokers, are not permitted to make this certification. Where a broker or other party was used to facilitate the entry process, {NAME OF IMPORTING COMPANY} obtained the entry summary number and date of entry summary from that party.

M. This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

N. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

[FR Doc. 2024-22113 Filed 9-26-24; 8:45 am]

BILLING CODE 3510-DS-P